NATIONAL SCIENCE FOUNDATION

Notice of Permit Issued Under the Antarctic Conservation Act of 1978

AGENCY: National Science Foundation.

ACTION: Notice of Permit issued under the Antarctic Conservation Act of 1978, Public Law 95-541.

SUMMARY: The National Science Foundation (NSF) is required to publish a notice of permit issued under the Antarctic Conservation Act of 1978. This is the required notice.

FOR FURTHER INFORMATION CONTACT: Li Ling Hamady, ACA Permit Officer, Division of Polar Programs, Rm. 755, National Science Foundation, 4201 Wilson Boulevard, Arlington, VA 22230. Or by e-mail ACApermits@nsf.gov.

SUPPLEMENTARY INFORMATION: On September 25, 2015 the National Science Foundation published a notice in the Federal Register of a permit modification application received. The permit modification was issued on November 3, 2015 to: Robert Pitman, Permit No. 2015-001.

Nadene G. Kennedy,
Polar Coordination Specialist, Division of Polar Programs.

[FR Doc. 2015-28380 Filed 11-6-15; 8:45 am]

BILLING CODE 7555-01-P